DEPARTMENT OF ENERGY

National Energy Technology Laboratory

Notice of Availability of a Financial Assistance Solicitation

AGENCY: National Energy Technology Laboratory (NETL), Department of Energy (DOE).

ACTION: Notice of availability of a Financial Assistance Solicitation.

SUMMARY: Notice is hereby given of the intent to issue Financial Assistance Program Solicitation No. DE-PS26-02NT40865 entitled “Solid State Energy Conversion Alliance (SECA) Core Technology Program.” The purpose of the SECA Core Technology Program is to develop science and technologies that address specific technical challenges and barriers faced by the SECA Industrial Teams. The goal for SECA Industrial Teams is to develop a 3 kilowatt (kW)-10kW solid-oxide fuel cell system including stack and balance of plant that has a Factory Cost of $400/kW by 2010. Additional information associated with the SECA program is located at http://www.seca.doe.gov.

DATES: The solicitation will be available on the “Industry Interactive Procurement System” (IIPS) Web page located at http://e-center.doe.gov on or about December 10, 2001. Prospective applicants can obtain access to the solicitation from the above Internet address or through the DOE/NETL's Internet address at http://www.netl.doe.gov/business.

ADDRESSES: The solicitation and any subsequent amendments will be published on the DOE/NETL's Internet address at http://www.netl.doe.gov/business and on the IIPS Web page located at http://e-center.doe.gov. Comments and/or questions prior to the issuance of the solicitation shall be forwarded to the mailing address or E-mail address provided below.

FOR FURTHER INFORMATION CONTACT: Mary S. Gabriele, MS I07, U.S. Department of Energy, National Energy Technology Laboratory, 3610 Collins Ferry Road, P.O. Box 880, Morgantown, WV 26507-0880, E-mail Address: mgabri@netl.doe.gov, Telephone Number: (304) 285-4253.

SUPPLEMENTARY INFORMATION: The subject solicitation will focus on specific sub-topics under the following six Core Technology topic areas:

1. Fuel Processing.

2. Manufacturing.

3. Controls & Diagnostics.

4. Power Electronics.

5. Modeling & Simulation.

6. Materials.

Each topic area contains one or more sub-topics that describe needs for specific science, engineering and technologies to support the SECA Industrial Teams. The Core Technology Program will focus on generating new scientific and engineering knowledge and on creating technology breakthroughs to address technical risks and barriers that limit achievement of the SECA performance and cost goals for solid-state fuel cell systems. Universities and small business research entities are considered well suited for this role of generating new knowledge and creating breakthroughs. The solicitation is however open to any nonprofit or for-profit organization, university or other institution of higher education, or non-federal agency, unless otherwise restricted by the Simpson-Craig Amendment.

The DOE anticipates award of multiple cooperative agreements in the various topic/subtopic areas; but the DOE reserves the right to award the agreement type and number deemed in its best interest. Each award will consist of two phases, and the selection for each phase will be based on a competitive process. Phase I will investigate the feasibility of the proposed concept/approach and will be limited to approximately $150,000 (DOE Funding) and twelve (12) months. Only Phase I recipients will have the opportunity to submit a renewal application to receive funds for Phase II research. If the Phase I work demonstrates feasibility, the selected Industrial Team members see sufficient commercialization merit, and adequate program funds are available, the recipient will be awarded a Phase II renewal agreement. Phase II work includes advancing the science and technology to a sufficient maturity level that it will be adopted by the Industrial Team(s). The Phase II effort will be limited to approximately $500,000 (DOE Funding) and twenty-four (24) months. Phase II renewal awards may be partially funded to pick only the aspects of the Phase II work that have sufficient merit to the SECA Industrial Team(s).

Applicants are advised that a minimum of 20% cost sharing will be required in Phase I and Phase II for technologies proposed under Topic Areas 1 through 5. Cost sharing is not mandatory for Phase I or Phase II under Topic Area 6, but is highly encouraged.

Once released, the solicitation will be available for downloading from the IIPS Internet page. At this Internet site you will also be able to register with IIPS, enabling you to submit an application. If you need technical assistance in registering or for any other IIPS function, call the IIPS Help Desk at (800) 683-0751 or E-mail the Help Desk personnel at IIPS—HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on November 30, 2001.
Randolph L. Kesling,
Director, Acquisition and Assistance Division.

[FR Doc. 01-30444 Filed 12-7-01; 8:45 am]

BILLING CODE 6450-01-P